DEPARTMENT OF LABOR

Fiscal Year (FY) 2016 Through FY 2017 Stand Down Grant Requests

AGENCY: Veterans' Employment and Training Service (VETS), Department of Labor.

ACTION: Amendment to Federal Register, 80 FR 80390 (Dec. 24, 2015) [FR Doc. 2015-32406 Filed 12-23-15; 8:45 a.m.]. This amendment extends funding for Stand Down events to December 31, 2017, contingent upon funding availability, and extends the award ceiling to $50,000 for Stand Down events planned to take place in certain designated counties where a federal major disaster has been declared by the President and where the Secretary has determined circumstances appropriate for an increased award ceiling.

SUMMARY: This notice amends 80 FR 80390 (Dec. 24, 2015) [FR Doc. 2015-32406 Filed 12-23-15; 8:45 a.m.]. The revised language is below:

IV. Award Information

In recognition of the substantial scale of such disasters as Hurricane Harvey, the Secretary has determined it appropriate, in certain circumstances where a federal major disaster has been declared, to allow entities proposing to conduct Stand Down events in areas impacted by those disasters to apply for funds in amounts up to $50,000. It is anticipated that this expanded ceiling will be most often provided on account of disasters that are similar in scale to such events as Hurricane Harvey and that impact substantial populations. In such circumstances, as declared by the Secretary in writing, entities proposing to conduct Stand Down events (1) within those designated counties where a federal major disaster has been declared by the President, or (2) in geographical areas to which a substantial number of veterans from those declared counties have been relocated, may apply for a one-time request for funds in amounts up to $50,000 through December 31, 2017. Applications will be processed and awarded subject to availability of funding. The general maximum award amounts of $10,000 per applicant per fiscal year for multiple day Stand Down events, or $7,000 for one day events, will not apply to such requests for designated counties where a federal major disaster has been declared by the President. Acceptable uses of Stand Down grant funds have not changed. Applicants may expend these funds over a period not to exceed September 30, 2018, or if funded after October 1, 2017, applicants may expend these funds over a period not to exceed September 20, 2019, the statutory life of the appropriated funds.

The Secretary hereby declares that entities proposing to conduct Stand Down events in areas impacted by the following disasters may apply for funds in amounts up to $50,000: (1) Within those designated counties in Texas, parishes in Louisiana, or counties in other States, where a federal major disaster has been declared by the President on account of Hurricane Harvey, Tropical Storm Harvey, or related storm systems, or in geographical areas to which a substantial number of veterans from those declared counties or parishes have been relocated; and (2) within those designated counties, municipalities, or districts in Florida, Puerto Rico, and the U.S. Virgin Islands, or counties in other States, where a federal major disaster has been declared by the President on account of Hurricane Irma, Tropical Storm Irma, or related storm systems, or in geographical areas to which a substantial number of veterans from those declared counties, municipalities, or districts have been relocated.

FOR FURTHER INFORMATION CONTACT: Thomas Martin, Grant Officer, Office of Grants Management, at (202) 693‐2989, Martin.Thomas@dol.gov.

Sam Shellenberger,
Deputy Assistant Secretary, Veterans' Employment and Training Service.

[FR Doc. 2017-19664 Filed 9-14-17; 8:45 am]

BILLING CODE 4510-79-P